FEDERAL COMMUNICATIONS COMMISSION

[FCC 19-3]

Establishment of the Fraud Division of the Enforcement Bureau

AGENCY: Federal Communications Commission.

ACTION: Notice.

SUMMARY: To reflect the activities, structure, and purpose of the Enforcement Bureau (EB), and the importance of protecting against fraud in programs that the Commission oversees, the Commission concluded that the public interest—namely, the proper dispatch of our business—would be served by creating an EB division specifically dedicated to investigating and pursuing fraud. This division will be called the Fraud Division. The purpose of this Order is to create a division comprised of existing EB staff that will be dedicated to taking enforcement actions against fraud in the Universal Service Fund and other funding programs that the Commission oversees. The Fraud Division will work with the Office of Inspector General and other law enforcement agencies, as appropriate, and will consist of the individuals who now focus on fraud cases. Establishing this division will capitalize on and enhance the Commission's expertise in rooting out fraud in programs over which the FCC has jurisdiction.

DATES: August 13, 2019.

ADDRESSES: The complete text of this document is also available for inspection and copying during normal business hours in the FCC Reference Information Center, Portals II, 445 12th Street SW, Rm. CY-A257, Washington, DC 20554.

FOR FURTHER INFORMATION CONTACT: Lisa Gelb, 202-418-2019.

SUPPLEMENTARY INFORMATION: The Commission finds that this change will be structural rather than substantive, and will not require change to the FCC's rules. The amendments adopted herein pertain to agency organization, procedure, and practice. Consequently, the notice and comment and effective date provisions of the Administrative Procedure Act contained in 5 U.S.C. 553(b) and (d) do not apply. Accordingly, it is ordered that, pursuant to sections 1, 4, 5(b), 5(c), 201(b), and 303(r) of the Communications Act of 1934, as amended, 47 U.S.C. 151, 154, 155(b), 155(c), 201(b), 303(r), this Order is adopted.

This is a summary of the Commission's Order, FCC 19-3, adopted on January 29, 2019, and released on February 4, 2019. The document is available for download from the FCC's website at: https://www.fcc.gov/document/establishment-fraud-division-enforcement-bureau.

Federal Communications Commission.
Marlene Dortch,
Secretary.

[FR Doc. 2019-16388 Filed 8-9-19; 8:45 am]

BILLING CODE 6712-01-P